DEPARTMENT OF STATE

[Public Notice: 12313]

Determination Under Section 7014(b) of the Department of State, Foreign Operations, and Related Programs Appropriations Act, 2022

Pursuant to the authority vested in me by section 7014(b) of the Department of State, Foreign Operations, and Related Programs Appropriations Act, 2022 (Div K, Pub. L. 117-103) (FY 2022 SFOAA), and Department of State Delegation of Authority 513, I hereby determine that a significant change in circumstances makes it unlikely that the following funds specifically designated for particular programs or activities by the FY 2022 SFOAA or any other act can be obligated during the original periods of availability of such funds: $45,050,000 in development assistance account; $11,637,500 in the global health programs-USAID account; $11,190,193 in the nonproliferation, anti-terrorism, demining, and related programs account; and $2,128,660 in the peacekeeping operations (PKO) account. This determination shall be published in the Federal Register and, along with the accompanying 7014(b) Memorandum of Justification, shall be transmitted to Congress.

Dated: September 12, 2023.
Richard Verma,
Deputy Secretary of State for Management and Resources, Department of State.

[FR Doc. 2024-05343 Filed 3-12-24; 8:45 am]

BILLING CODE 4710-10-P